DEPARTMENT OF ENERGY

Federal Energy Regulatory Commission

Combined Notice of Filings #1

Take notice that the Commission received the following electric corporate filings:

Docket Numbers: EC25-141-000.

Applicants: Faraday Solar B LLC.

Description: Application for Authorization Under Section 203 of the Federal Power Act of Faraday Solar B LLC.

Filed Date: 8/26/25.

Accession Number: 20250826-5149.

Comment Date: 5 p.m. ET 9/16/25.

Take notice that the Commission received the following exempt wholesale generator filings:

Docket Numbers: EG25-499-000.

Applicants: Yellow Pine Solar Interconnect II, LLC.

Description: Yellow Pine Solar Interconnect II, LLC submits Notice of Self-Certification of Exempt Wholesale Generator Status.

Filed Date: 8/22/25.

Accession Number: 20250822-5217.

Comment Date: 5 p.m. ET 9/12/25.

Take notice that the Commission received the following electric rate filings:

Docket Numbers: ER10-2249-012.

Applicants: Portland General Electric Company.

Description: Supplement to 06/30/2025, Triennial Market Power Analysis for Northwest Region of Portland General Electric Company.

Filed Date: 8/22/25.

Accession Number: 20250822-5219.

Comment Date: 5 p.m. ET 9/12/25.

Docket Numbers: ER19-1281-008.

Applicants: Lexington Chenoa Wind Farm LLC.

Description: Response to 07/25/2025 Deficiency Letter of Lexington Chenoa Wind Farm LLC.

Filed Date: 8/25/25.

Accession Number: 20250825-5232.

Comment Date: 5 p.m. ET 9/15/25.

Docket Numbers: ER25-712-002.

Applicants: PJM Interconnection, L.L.C.

Description: Compliance filing: ER25-712 Reliability Resource Initiative Compliance Filing to be effective 12/14/2024.

Filed Date: 8/27/25.

Accession Number: 20250827-5110.

Comment Date: 5 p.m. ET 9/17/25.

Docket Numbers: ER25-2171-001.

Applicants: Cheyenne Light, Fuel and Power Company.

Description: Tariff Amendment: Response to Deficiency Letter for Revised Transmission Rates to be effective 8/1/2025.

Filed Date: 8/27/25.

Accession Number: 20250827-5101.

Comment Date: 5 p.m. ET 9/17/25.

Docket Numbers: ER25-2692-000.

Applicants: DTE Electric Company.

Description: Refund Report of DTE Electric Company.

Filed Date: 8/27/25.

Accession Number: 20250827-5134.

Comment Date: 5 p.m. ET 9/17/25.

Docket Numbers: ER25-2754-001.

Applicants: Southwest Power Pool, Inc.

Description: Tariff Amendment: East River Electric Power Cooperative Amendment to Formula Rate Filing to be effective 1/1/2025.

Filed Date: 8/27/25.

Accession Number: 20250827-5035.

Comment Date: 5 p.m. ET 9/17/25.

Docket Numbers: ER25-3297-000.

Applicants: New York Independent System Operator, Inc., New York State Electric & Gas Corporation.

Description: § 205(d) Rate Filing: New York Independent System Operator, Inc. submits tariff filing per 35.13(a)(2)(iii: NYISO-NYSEG Joint 205: Standard IA Somerset Solar SA2903 (CEII) to be effective 8/13/2025.

Filed Date: 8/27/25.

Accession Number: 20250827-5008.

Comment Date: 5 p.m. ET 9/17/25.

Docket Numbers: ER25-3298-000.

Applicants: Southwest Power Pool, Inc.

Description: § 205(d) Rate Filing: Revs to Tariff to Add Zone 102 as Exception to the Sch 9 Rule (RRs630 and 634) to be effective 12/31/9998.

Filed Date: 8/27/25.

Accession Number: 20250827-5031.

Comment Date: 5 p.m. ET 9/17/25.

Docket Numbers: ER25-3299-000.

Applicants: Tri-State Generation and Transmission Association, Inc.

Description: § 205(d) Rate Filing: Initial Filing of Rate Schedule FERC No. 423 to be effective 10/27/2025.

Filed Date: 8/27/25.

Accession Number: 20250827-5038.

Comment Date: 5 p.m. ET 9/17/25.

Docket Numbers: ER25-3300-000.

Applicants: Tri-State Generation and Transmission Association, Inc.

Description: § 205(d) Rate Filing: Initial Filing of Rate Schedule FERC No. 422 to be effective 10/27/2025.

Filed Date: 8/27/25.

Accession Number: 20250827-5039.

Comment Date: 5 p.m. ET 9/17/25.

Docket Numbers: ER25-3301-000.

Applicants: PJM Interconnection, L.L.C.

Description: § 205(d) Rate Filing: Amendment to WMPA, Service Agreement No. 6470; AG1-198 to be effective 10/27/2025.

Filed Date: 8/27/25.

Accession Number: 20250827-5043.

Comment Date: 5 p.m. ET 9/17/25.

Docket Numbers: ER25-3302-000.

Applicants: PacifiCorp.

Description: § 205(d) Rate Filing: Surplus Large Gen Interconnect Agrmt (Sigurd Storage—SA No. 1179) to be effective 8/28/2025.

Filed Date: 8/27/25.

Accession Number: 20250827-5046.

Comment Date: 5 p.m. ET 9/17/25.

Docket Numbers: ER25-3303-000.

Applicants: Pacific Gas and Electric Company.

Description: § 205(d) Rate Filing: TO SA 292: Amendment to the NCPA Interconnection Agreement (SA 292) to be effective 11/1/2025.

Filed Date: 8/27/25.

Accession Number: 20250827-5055.

Comment Date: 5 p.m. ET 9/17/25.

Docket Numbers: ER25-3304-000.

Applicants: Tri-State Generation and Transmission Association, Inc.

Description: Tariff Amendment: Notice of Cancellation of Rate Schedule FERC No. 360 to be effective 10/27/2025.

Filed Date: 8/27/25.

Accession Number: 20250827-5056.

Comment Date: 5 p.m. ET 9/17/25.

Docket Numbers: ER25-3305-000.

Applicants: Pacific Gas and Electric Company.

Description: § 205(d) Rate Filing: RS 246: Amendment to Biggs Interruptible Wholesale Distribution Service and IA to be effective 10/31/2025.

Filed Date: 8/27/25.

Accession Number: 20250827-5063.

Comment Date: 5 p.m. ET 9/17/25.

Docket Numbers: ER25-3306-000.

Applicants: PJM Interconnection, L.L.C.

Description: § 205(d) Rate Filing: Amendment to ISA, Service Agreement No. 6239; Queue No. AE2-343 to be effective 10/27/2025.

Filed Date: 8/27/25.

Accession Number: 20250827-5064.

Comment Date: 5 p.m. ET 9/17/25.

Docket Numbers: ER25-3307-000.

Applicants: Midcontinent Independent System Operator, Inc.

Description: § 205(d) Rate Filing: 2025-08-27_Loss of Load Expectation Definition Change Filing to be effective 10/27/2025.

Filed Date: 8/27/25.

Accession Number: 20250827-5070.

Comment Date: 5 p.m. ET 9/17/25.

Docket Numbers: ER25-3308-000.

Applicants: Southwest Power Pool, Inc.

Description: § 205(d) Rate Filing: Revisions Regarding Mitigated Offers for Hydro Resources to be effective 10/28/2025.

Filed Date: 8/27/25.

Accession Number: 20250827-5099.

Comment Date: 5 p.m. ET 9/17/25.

Docket Numbers: ER25-3309-000.

Applicants: NSTAR Electric Company.

Description: § 205(d) Rate Filing: BXP, Inc.—Design and Engineering Study Agreement to be effective 8/28/2025.

Filed Date: 8/27/25.

Accession Number: 20250827-5108.

Comment Date: 5 p.m. ET 9/17/25.

Docket Numbers: ER25-3310-000.

Applicants: AEP Texas Inc.

Description: § 205(d) Rate Filing: AEPTX-SMT McAllen II 1st Amended Generation Interconnection Agreement to be effective 8/6/2025.

Filed Date: 8/27/25.

Accession Number: 20250827-5122.

Comment Date: 5 p.m. ET 9/17/25.

Docket Numbers: ER25-3311-000.

Applicants: Montpelier Solar, LLC.

Description: § 205(d) Rate Filing: Application for MBR Authorization with Waivers—Montpelier Solar, LLC to be effective 10/1/2025.

Filed Date: 8/27/25.

Accession Number: 20250827-5136.

Comment Date: 5 p.m. ET 9/17/25.

Take notice that the Commission received the following electric securities filings:

Docket Numbers: ES25-69-000; ES25-70-000; ES25-71-000.

Applicants: Valley Link Transmission West Virginia, LLC, Valley Link Transmission Virginia, LLC, Valley Link Transmission Maryland, LLC.

Description: Application Under Section 204 of the Federal Power Act for Authorization to Issue Securities of Valley Link Transmission Maryland, LLC, et al.

Filed Date: 8/26/25.

Accession Number: 20250826-5150.

Comment Date: 5 p.m. ET 9/16/25.

Take notice that the Commission received the following public utility holding company filings:

Docket Numbers: PH25-16-000.

Applicants: Brookfield Corporation.

Description: Brookfield Corporation submits FERC-65A Notice of Change in Fact to Waiver Notification.

Filed Date: 8/21/25.

Accession Number: 20250821-5157.

Comment Date: 5 p.m. ET 9/11/25.

Take notice that the Commission received the following electric reliability filings:

Docket Numbers: RD25-10-000.

Applicants: North American Electric Reliability Corporation.

Description: Petition of the North American Electric Reliability Corporation for Approval of Revised Terms “Generator Owner” and “Generator Operator” used in NERC Reliability Standards and Request for Expedited Action.

Filed Date: 8/27/25.

Accession Number: 20250827-5115.

Comment Date: 5 p.m. ET 9/26/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 27, 2025.
Debbie-Anne A. Reese,
Secretary.

[FR Doc. 2025-16768 Filed 8-29-25; 8:45 am]

BILLING CODE 6717-01-P